DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated National and Blocked Persons List based on OFAC's determination that one or more applicable legal criteria were satisfied. All property and interests in property subject to U.S. jurisdiction of these persons are blocked, and U.S. persons are generally prohibited from engaging in transactions with them.

DATES: See SUPPLEMENTARY INFORMATION section for date(s).

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410 (not toll free numbers).

SUPPLEMENTARY INFORMATION:

Electronic Availability

The Specially Designated Nationals and Blocked Persons List and additional information concerning OFAC sanctions programs are available on OFAC's Web site (www.treasury.gov/ofac).

Notice of OFAC Action(s)

On June 29, 2017, OFAC determined that the property and interests in property subject to U.S. jurisdiction of the following persons are blocked pursuant to the relevant sanctions authorities listed below.

Individuals

Designated pursuant to section 2(a)(vii) and section 2(a)(viii) of Executive Order 13722, “Blocking Property of the Government of North Korea and the Workers' Party of Korea, and Prohibiting Certain Transactions With Respect to North Korea,” for having materially assisted, sponsored, or provided financial, material, or technological support for, or goods or services to or in support of, RI SONG HYOK, a person whose property and interests in property are blocked, pursuant to E.O. 13722; and for having acted or purported to act for or on behalf of, directly or indirectly, RI SONG HYOK, a person whose property and interests in property are blocked, pursuant to E.O. 13722.

2. SUN, Wei, 224-4 Shifu Da Lu, RM 1305, Heping District, Sheyang City, Liaoning Province, China; 200-69 Yinhe East Road, 115 Tianshifu County, Benxi Manchurian Autonomous Region, Liaoning Province, China; DOB 01 Jul 1982; Gender Male; National ID No. 210521198207010412 (China) expires 13 Aug 2029 (individual) [NPWMD] (Linked To: FOREIGN TRADE BANK OF THE DEMOCRATIC PEOPLE'S REPUBLIC OF KOREA).

Designated pursuant to section 1(a)(iv) of Executive Order 13382, “Blocking Property of Weapons of Mass Destruction Proliferators and Their Supporters” (“E.O. 13382”), for acting or purporting to act for or on behalf of, directly or indirectly, FOREIGN TRADE BANK, a person whose property and interests in property are blocked pursuant to E.O. 13382.

Entity

Designated pursuant to section 2(a)(i) of E.O. 13722, for operating in the transportation industry in the North Korean economy, an industry in the North Korea economy determined by the Secretary of the Treasury, in consultation with the Secretary of State, to be subject to section 2(a)(i) of E.O. 13722.

John E. Smith,
Director, Office of Foreign Assets Control.

[FR Doc. 2017-15797 Filed 7-26-17; 8:45 am]

BILLING CODE 4810-AL-P